DEPARTMENT OF COMMERCE

National Oceanic and Atmospheric Administration

50 CFR Part 648

[Docket No. 151211999-6343-02]

RIN 0648-XF133

Fisheries of the Northeastern United States; Northeast Multispecies Fishery; Georges Bank Cod Trimester Total Allowable Catch Area Closure and Possession Prohibition for the Common Pool Fishery

AGENCY: National Marine Fisheries Service (NMFS), National Oceanic and Atmospheric Administration (NOAA), Commerce.

ACTION: Temporary rule; area closure and inseason adjustment.

SUMMARY: This action closes the Georges Bank Cod Trimester Total Allowable Catch Area to Northeast multispecies common pool vessels and prohibits the possession of Georges Bank cod by common pool vessels for the remainder of the fishing year, through April 30, 2017. The common pool fishery has exceeded its annual quota for Georges Bank cod. The closure and possession prohibition are intended to prevent further overage of the common pool's quota for this stock.

DATES: This action is effective January 9, 2017, through April 30, 2017.

FOR FURTHER INFORMATION CONTACT: Kyle Molton, Fishery Management Specialist, (978) 281-9236.

SUPPLEMENTARY INFORMATION: Federal regulations at 50 CFR 648.82(n)(2)(ii) require the Regional Administrator to close a common pool Trimester Total Allowable Catch (TAC) Area for a stock when 90 percent of the Trimester TAC is projected to be caught. The closure applies to all common pool vessels on a groundfish trip using gear capable of catching that stock for the remainder of the trimester.

As of December 26, 2016, the common pool fishery has exceeded its annual TAC for Georges Bank (GB) cod by 0.3 mt, or 2.7 percent. Additionally, any overages in Trimesters 1 and 2 must be deducted from the Trimester 3 TAC. The combined overages in Trimesters 1 and 2 (4.7 mt) exceed the Trimester 3 TAC of 4.3 mt. As a result, there is no TAC available to be harvested in Trimester 3.

Effective January 9, 2017, the GB Cod Trimester TAC Area is closed for the remainder of the fishing year, through April 30, 2017, to all common pool vessels fishing on a groundfish trip with trawl gear, sink gillnet gear, and longline/hook gear. The GB Cod Trimester TAC Area consists of statistical areas 521, 522, 525, and 561. The area reopens at the beginning of fishing year 2017 on May 1, 2017.

Data indicates that common pool vessels have caught a significant portion of the total catch from outside the statistical areas that will be affected by the closure described above. The Regional Administrator is authorized under 50 CFR 648.86(o)(1) to adjust possession and trip limits for common pool vessels to prevent exceeding the pertinent common pool quotas during the fishing year. To prevent the common pool from further exceeding its quota and discourage fishing behavior that results in bycatch of GB cod in areas not affected by the closure, the possession of GB cod by all common pool vessels is prohibited, effective January 9, 2017, through April 30, 2017.

If a vessel declared its trip through the Vessel Monitoring System (VMS) or the interactive voice response system, and crossed the VMS demarcation line prior to January 9, 2017, it may complete its trip within the Trimester TAC Area. Additionally, such vessels are not subject to the new possession prohibition for that trip. A vessel that has set gillnet gear prior to January 9, 2017, may complete its trip by hauling such gear and will not be subject to the new possession limit on that trip for fish caught with that gear.

Weekly quota monitoring reports for the common pool fishery are on our Web site at: www.greateratlantic.fisheries.noaa.gov/ro/fso/MultiMonReports.htm. Because the common pool fishery has exceeded its annual quota for GB cod in the 2016 fishing year, the overage will be deducted from the common pool's annual quota for fishing year 2017. The final 2016 overage, and the adjustment to the 2017 common pool quota, will be announced as close to May 1, 2017, as possible, once final catch information for the 2016 fishing year are available. We will continue to monitor common pool catch through vessel trip reports, dealer-reported landings, VMS catch reports, and other available information.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

Regulations require the Regional Administrator to close a trimester TAC area to the common pool fishery when 90 percent of the Trimester TAC for a stock has been caught. Updated catch information only recently became available indicating that the common pool fishery had exceeded its annual quota for GB cod. The time necessary to provide for prior notice and comment, and a 30-day delay in effectiveness, prevents the immediate closure of the GB Cod Trimester 3 TAC Area and prohibition of GB cod possession. Delaying the effective date of a closure and possession prohibition may increase the overage in fishing year 2016 that will need to be deducted from next year's quota. This would be to the detriment of the GB cod stock, and could undermine management objectives of the Northeast Multispecies Fishery Management Plan. Additionally, the overage of the common pool quota could cause negative economic impacts to the common pool fishery as a result of required catch limit deductions in the 2017 fishing year.

Authority: 16 U.S.C. 1801 et seq.

Dated: January 6, 2017.
Emily H. Menashes,
Acting Director, Office of Sustainable Fisheries, National Marine Fisheries Service.

[FR Doc. 2017-00484 Filed 1-9-17; 8:45 am]

BILLING CODE 3510-22-P